DEPARTMENT OF LABOR

Employment and Training Administration

Notice of Determinations Regarding Eligibility To Apply for Worker Adjustment Assistance

In accordance with section 223 of the Trade Act of 1974, as amended (19 U.S.C. 2273), the Department of Labor herein presents summaries of determinations regarding eligibility to apply for trade adjustment assistance for workers (TA-W) number and alternative trade adjustment assistance (ATAA) by (TA-W) number issued during the periods of December 2005.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) the workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Affirmative Determinations for Worker Adjustment Assistance

The following certifications have been issued; the date following the company name and location of each determination references the impact date for all workers of such determination.

The following certifications have been issued. The requirements of (a)(2)(A) (increased imports) of section 222 have been met.

TA-W-58,314; Jessica Trimmings, Hialeah, FL, November 10, 2004.

TA-W-58,334; Armstrong World Industries, Inc., Lancaster Floor Plant Sheet Division, Lancaster, PA, November 11, 2004.

TA-W-58,384; Bekaert Corporation, Dyersburg, TN, November 18, 2004.

TA-W-58,418; Nicoles & Stone Company, Div. Brady Furniture Co., Rural Hall, NC, November 23, 2004.

TA-W-58,146; Wabash Alloys, LLC, Cleveland, OH, October 17, 2004.

TA-W-58,304; Viking Polymer Solutions, LLC, Albion, NY, November 9, 2004.

TA-W-58,308; Fordyce Picture Frames Co., Fordyce, AR, November 9, 2004.

TA-W-58,347; Dry Branch Operations, Dry Branch, GA, November 7, 2004.

TA-W-58,369; Agere Systems, Inc., Orlando, FL, November 4, 2004.

TA-W-58,379; SPX Contech, Including Leased Workers of Peoplelink, Mishawaka, IN, November 1, 2004.

TA-W-58,432; R.J. Reynolds Tobacco Company, Macon, GA, January 8, 2006.

The following certifications have been issued. The requirements of (a)(2)(B) (shift in production) of Section 222 have been met.

TA-W-58,296; Kimberly-Clarke, Ballard Medical Products, Leased Workers of SOS Staffing and Express, Personnel, Pocatello, ID, November 3, 2004.

TA-W-58,380; Dan Post Boot Co., Waverly, TN, December 19, 2005.

TA-W-58,409; Shelby Automobiles, Inc., Las Vegas, NV, November 15, 2004.

TA-W-58,416; Gold Toe Brands, Inc., Burlington, NC, November 23, 2004.

TA-W-58,476; Orban CRL Systems, San Leandro, CA, November 18, 2004.

TA-W-58,489; Tricon Industries, Inc., Electromechanical Division, Downers Grove, IL, September 13, 2004.

TA-W-58,282; Kone, Inc., Escalator Manufacturing Plant, A Subsidiary of Kone OY, Coal Valley, IL, November 4, 2004.

TA-W-58,370; S. Lichtenberg and Co., Inc., Samsons Mfg. Co. Div., Waynesboro, GA, December 5, 2005.

The following certification has been issued. The requirement of supplier to a trade certified firm has been met.

None.

The following certification has been issued. The requirement of downstream producer to a trade certified firm has been met.

None.

Negative Determinations for Worker Adjustment Assistance

In the following cases, the investigation revealed that the criteria for eligibility have not been met for the reasons specified.

The investigation revealed that criterion (a)(2)(A)(I.A) and (a)(2)(B)(II.A) (no employment decline) has not been met.

TA-W-58,348; General Electric Appliances Production Operation, LLC, General Electric Consumer and Industrial Division, Bloomington, IN.

TA-W-58,461; Jaderloon Co., Inc., Burleson, TX.

The investigation revealed that criteria (a)(2)(A)(I.B.) (Sales or production, or both, did not decline) and (a)(2)(B)(II.B) (No shift in production to a foreign country) have not been met.

TA-W-58,330; Tenneco Automotive Walker, Inc., A Subsidiary of Tenneco, On-Site Leased Workers of Westaff and Sundance Staffi, Salinas, CA.

TA-W-58,331; Smucker Fruit Processing Co., Salinas, CA.

TA-W-58,335; Powder Processing and Technology, LLC, Valparaiso, IN.

TA-W-58,457; Sonoco Products Company, Flexibles Packaging Division, Charlotte, NC.

The investigation revealed that criteria (a)(2)(A)(I.C.) (increased imports) and (a)(2)(B)(II.B) (No shift in production to a foreign country) have not been met.

TA-W-58,171; Cooper Standard Automotive, Noise, Vibration and Harshness Division, Auburn, IN.

TA-W-58,175; TI Group Automotive Systems, LLC, A Subsidiary of TI Automotive, LTD, Fuel Systems Div., Meriden, CT.

TA-W-58,263; Parkdale Mills, Inc., Plant #8, Belmont, NC.

TA-W-58,311; Abbott Laboratories, Diagnostics Division, Abbott Park, IL.

TA-W-58,362; Stora Enso North America, Kimberly Paper Mill, Kimberly, WI.

TA-W-58,362A; Stora Enso North America, Stevens Point Paper Mill, Kimberly, WI.

TA-W-58,364; Mine Safety Appliances Co., Saftey Products Division, On-Site Leased Workers, Evans City, PA.

TA-W-58,343; Michaels of Oregon, Corporate Office, Oregon City, OR.

The investigation revealed that criteria (a)(2)(A)(I.C). Increased imports and (a)(2)(B)(II.C) (has shifted production to a foreign country) have not been met.

TA-W-58,245; Agilent Technologies, Assurance Solutions, Roseville, CA.

TA-W-58,245A; Agilent Technologies, Assurance Solutions, Colorado Springs, CO.

The workers firm does not produce an article as required for certification under Section 222 of the Trade Act of 1974.

TA-W-58,250; Independence Airlines, Dulles International Airport, Dulles, VA.

TA-W-58,250A; Independence Airlines, Detroit Wayne County Airport, Detroit, MI.

TA-W-58,250B; Independence Airlines, Port Columbus International Airport, Columbus, OH.

TA-W-58,250C; Independence Airlines, Orlando International Airport, Orlando, FL.

TA-W-58,250D; Independence Airlines, Jacksonville International Airport, Jacksonville, FL.

TA-W-58,250E; Independence Airlines, Logan International Airport, Boston, MA.

TA-W-58,250F; Independence Airlines, West Palm Beach International Airport, West Palm Beach, FL,

TA-W-58,250G; Independence Airlines, Newark International Airport, Newark, NJ.

TA-W-58,250H; Independence Airlines, Allegheny County Airport, Pittsburgh, PA,

TA-W-58,250I; Independence Airlines, Chicago O'Hare International Airport, Chicago, IL.

TA-W-58,250J; Independence Airlines, Tampa International Airport, Tampa, FL.

TA-W-58,250K; Independence Airlines, Hopkins International Airport, Cleveland, OH.

TA-W-58,338; Passion Parties, Inc., Brisbane, CA,

TA-W-58,351; Air Control Science, Inc., Boulder, CO,

TA-W-58,355; ExxonMobil Fuels Marketing Co., Customer Support Center, Exton, PA.

TA-W-58,366; Teradyne, Inc., Semiconductor Test Division, North Reading, MA.

TA-W-58,373; Irving Oil, Insurance Department, Brewer, ME.

TA-W-58,381; DSM Pharma Chemicals, A Division of DSM Pharmaceuticals, Inc., Greenville, NC.

TA-W-58,382; ICT Group, Inc., Skokane Valley, WA.

TA-W-58,392; InFocus Corporation, Wilsonville, OR.

TA-W-58,414; Quantum Corporation, San Jose, CA.

TA-W-58,414A; Quantum Corporation, Irvine, CA.

TA-W-58,414B; Quantum Corporation, Boulder, CO.

TA-W-58,414C; Quantum Corporation, Colorado Springs, CO.

TA-W-58,430; Ford Motor Company, Sales and Marketing Division, Philadelphia Regional Sales Office, Mt. Laurel, NJ.

TA-W-58,414D; Quantum Corporation, Costa Mesa, CA.

The investigation revealed that criteria (2) has not been met. The workers firm (or subdivision) is not a supplier or downstream producer to trade-affected companies.

TA-W-58,333; Sonoco Products Company, Chester, VA.

Affirmative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

TA-W-58,314; Jessica Trimmings, Hialeah, FL, November 10, 2004.

TA-W-58,334; Armstrong World Industries, Inc., Lancaster Floor Plant Sheet Division, Lancaster, PA, November 11, 2004.

TA-W-58,418; Nicoles & Stone Company, Div. Brady Furniture Co., Rural Hall, NC, November 23, 2004.

TA-W-58,146; Wabash Alloys, LLC, Cleveland, OH, October 17, 2004.

TA-W-58,304; Viking Polymer Solutions, LLC, Albion, NY, November 9, 2004.

TA-W-58,308; Fordyce Picture Frames Co., Fordyce, AR, November 9, 2004.

TA-W-58,347; Dry Branch Operations, Dry Branch, GA, November 7, 2004.

TA-W-58,379; SPX Contech, Including Leased Workers of Peoplelink, Mishawaka, IN, November 1, 2004.

TA-W-58,432; R.J. Reynolds Tobacco Company, Macon, GA, January 8, 2006.

TA-W-58,296; Kimberly-Clarke, Ballard Medical Products, Leased Workers of SOS Staffing and Express, Personnel, Pocatello, ID, November 3, 2004.

TA-W-58,380; Dan Post Boot Co., Waverly, TN, December 19, 2005.

TA-W-58,409; Shelby Automobiles, Inc., Las Vegas, NV, November 15, 2004.

TA-W-58,416; Gold Toe Brands, Inc., Burlington, NC, November 23, 2004.

TA-W-58,476; Orban CRL Systems, San Leandro, CA, November 18, 2004.

TA-W-58,370; S. Lichtenberg and Co., Inc., Samsons Mfg. Co. Div., Waynesboro, GA, December 5, 2005.

Negative Determinations for Alternative Trade Adjustment Assistance

In order for the Division of Trade Adjustment Assistance to issued a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

Since the workers are denied eligibility to apply for TAA, the workers cannot be certified eligible for ATAA.

TA-W-58,348; General Electric Appliances Production Operation, LLC, General Electric Consumer and Industrial Division, Bloomington, IN.

TA-W-58,461; Jaderloon Co., Inc., Burleson, TX.

TA-W-58,330; Tenneco Automotive Walker, Inc., A Subsidiary of Tenneco, On-Site Leased Workers of Westaff and Sundance Staffi, Salinas, CA.

TA-W-58,331; Smucker Fruit Processing Co., Salinas, CA.

TA-W-58,335; Powder Processing and Technology, LLC, Valparaiso, IN.

TA-W-58,457; Sonoco Products Company, Flexibles Packaging Division, Charlotte, NC.

TA-W-58,171; Cooper Standard Automotive, Noise, Vibration and Harshness Division, Auburn, IN.

TA-W-58,175; TI Group Automotive Systems, LLC, A Subsidiary of TI Automotive, LTD, Fuel Systems Div., Meriden, CT.

TA-W-58,263; Parkdale Mills, Inc., Plant #8, Belmont, NC.

TA-W-58,311; Abbott Laboratories, Diagnostics Division, Abbott Park, IL.

TA-W-58,362; Stora Enso North America, Kimberly Paper Mill, Kimberly, WI.

TA-W-58,362A; Stora Enso North America, Stevens Point Paper Mill, Kimberly, WI.

TA-W-58,364; Mine Safety Appliances Co., Saftey Products Division, On-Site Leased Wkrs, Evans City, PA.

TA-W-58,245; Agilent Technologies, Assurance Solutions, Roseville, CA.

TA-W-58,245A; Agilent Technologies, Assurance Solutions, Colorado Springs, CO.

TA-W-58,343; Michaels of Oregon, Corporate Office, Oregon City, OR.

TA-W-58,250; Independence Airlines, Dulles International Airport, Dulles, VA.

TA-W-58,250A; Independence Airlines, Detroit Wayne County Airport, Detroit, MI.

TA-W-58,250B; Independence Airlines, Port Columbus International Airport, Columbus, OH.

TA-W-58,250C; Independence Airlines, Orlando International Airport, Orlando, FL.

TA-W-58,250D; Independence Airlines, Jacksonville International Airport, Jacksonville, FL.

TA-W-58,250E; Independence Airlines, Logan International Airport, Boston, MA.

TA-W-58,250F; Independence Airlines, West Palm Beach International Airport, West Palm Beach, FL.

TA-W-58,250G; Independence Airlines, Newark International Airport, Newark, NJ.

TA-W-58,250H; Independence Airlines, Allegheny County Airport, Pittsburgh, PA.

TA-W-58,250I; Independence Airlines, Chicago O'Hare International Airport, Chicago, IL.

TA-W-58,250J; Independence Airlines, Tampa International Airport, Tampa, FL.

TA-W-58,250K; Independence Airlines, Hopkins International Airport, Cleveland, OH.

TA-W-58,338; Passion Parties, Inc., Brisbane, CA.

TA-W-58,351; Air Control Science, Inc., Boulder, CO.

TA-W-58,355; ExxonMobil Fuels Marketing Co., Customer Support Center, Exton, PA.

TA-W-58,366; Teradyne, Inc., Semiconductor Test Division, North Reading, MA.

TA-W-58,373; Irving Oil, Insurance Department, Brewer, ME.

TA-W-58,381; DSM Pharma Chemicals, A Division of DSM Pharmaceuticals, Inc., Greenville, NC.

TA-W-58,382; ICT Group, Inc., Skokane Valley, WA.

TA-W-58,392; InFocus Corporation, Wilsonville, OR.

TA-W-58,414; Quantum Corporation, San Jose, CA.

TA-W-58,414A; Quantum Corporation, Irvine, CA.

TA-W-58,414B; Quantum Corporation, Boulder, CO.

TA-W-58,414C; Quantum Corporation, Colorado Springs, CO.

TA-W-58,430; Ford Motor Company, Sales and Marketing Division, Philadelphia Regional Sales Office, Mt. Laurel, NJ.

TA-W-58,333; Sonoco Products Company, Chester, VA.

The Department as determined that criterion (1) of Section 246 has not been met. Workers at the firm are 50 years of age or older.

None.

The Department as determined that criterion (2) of Section 246 has not been met. Workers at the firm possess skills that are easily transferable.

TA-W-58,384; Bekaert Corporation, Dyersburg, TN.

TA-W-58,489; Tricon Industries, Inc., Electromechanical Division, Downers Grove, IL.

TA-W-58,282; Kone, Inc., Escalator Manufacturing Plant, A Subsidiary of Kone OY, Coal Valley, IL.

The Department as determined that criterion (3) of Section 246 has not been met. Competition conditions within the workers' industry are not adverse.

None.

I hereby certify that the aforementioned determinations were issued during the month of December 2005. Copies of these determinations are available for inspection in Room C-5311, U.S. Department of Labor, 200 Constitution Avenue, NW., Washington, DC 20210 during normal business hours or will be mailed to persons who write to the above address.

Dated: January 3, 2006.
Erica R. Cantor,
Director, Division of Trade Adjustment Assistance.

[FR Doc. E6-111 Filed 1-9-06; 8:45 am]

BILLING CODE 4510-30-P